DEPARTMENT OF ENERGY

Office of Energy Efficiency and Renewable Energy

[Case No. RF-022]

Publication of the Petition for Waiver From Sanyo E&E Corporation From the Department of Energy Residential Refrigerator and Refrigerator-Freezer Test Procedure

AGENCY: Office of Energy Efficiency and Renewable Energy, Department of Energy.

ACTION: Notice of re-opening of public comment period.

SUMMARY: On April 2, 2012, the U.S. Department of Energy (DOE) published the Sanyo E&E Corporation (Sanyo) petition for waiver from the residential refrigerator and refrigerator-freezer test procedure. Comments were required to be submitted by May 2, 2012. This document announces that the period for submitting comments on the Sanyo petition for waiver is re-opened until June 18, 2012.

DATES: DOE will accept comments, data, and information regarding the Sanyo petition for waiver received no later than June 18, 2012.

ADDRESSES: Any comments submitted must identify the Sanyo E&E Corporation petition for waiver, and provide case number RF-022. Comments may be submitted using any of the following methods:

• Federal eRulemaking Portal: http://www.regulations.gov. Follow the instructions for submitting comments.

• Email: AS_Waiver_Requests@ee.doe.gov. Include the case number [Case No. RF-022] in the subject line of the message.

• Mail: Ms. Brenda Edwards, U.S. Department of Energy, Building Technologies Program, Mailstop EE-2J/1000 Independence Avenue SW., Washington, DC 20585-0121. Telephone: (202) 586-2945. Please submit one signed original paper copy.

• Hand Delivery/Courier: Ms. Brenda Edwards, U.S. Department of Energy, Building Technologies Program, 950 L'Enfant Plaza SW., Suite 600, Washington, DC 20024. Please submit one signed original paper copy.

Docket: For access to the docket to read background documents or comments received, visit the U.S. Department of Energy, Resource Room of the Building Technologies Program, 950 L'Enfant Plaza SW., 6th Floor, Washington, DC 20024, (202) 586-2945, between 9:00 a.m. and 4:00 p.m. Monday through Friday, except Federal holidays. Please call Ms. Brenda Edwards at the above telephone number for additional information.

FOR FURTHER INFORMATION CONTACT: Mr. Bryan Berringer, U.S. Department of Energy, Building Technologies Program, Mail Stop EE-2J, Forrestal Building, 1000 Independence Avenue SW., Washington, DC 20585-0121. Telephone: (202) 586-0371. Email: Bryan.Berringer@ee.doe.gov.

SUPPLEMENTARY INFORMATION: On April 2, 2012, DOE published the Sanyo petition for waiver from the residential refrigerator, refrigerator-freezer, and freezer test procedure in the Federal Register (77 FR 19654). The notice provided for the submission of comments by May 2, 2012. After the notice of petition for waiver was published, Sanyo provided DOE with clarifications on certain items in its original petition, and requested that the comment period for its petition for waiver be extended so that commenters would have an opportunity to comment on the petition with these clarifications included. DOE is publishing Sanyo's request in its entirety. The request contains no confidential information. The request includes a suggested alternate test procedure to determine the energy consumption of Sanyo's specified hybrid refrigerators. To provide all manufacturers of domestically marketed units of the same product type additional time to submit comments on the additional information provided by Sanyo, DOE has determined that re-opening of the public comment period is appropriate and is hereby re-opening the comment period. DOE will consider any comments received by June 18, 2012 and deems any comments received between May 2, 2012 and June 18, 2012 to be timely submitted.

Further Information on Submitting Comments

Under 10 CFR part 1004.11, any person submitting information that he or she believes to be confidential and exempt by law from public disclosure should submit two copies: One copy of the document including all the information believed to be confidential, and one copy of the document with the information believed to be confidential deleted. DOE will make its own determination about the confidential status of the information and treat it according to its determination.

Factors of interest to DOE when evaluating requests to treat submitted information as confidential include (1) a description of the items, (2) whether and why such items are customarily treated as confidential within the industry, (3) whether the information is generally known by or available from other sources, (4) whether the information has previously been made available to others without obligation concerning its confidentiality, (5) an explanation of the competitive injury to the submitting person which would result from public disclosure, (6) when such information might lose its confidential character due to the passage of time, and (7) why disclosure of the information would be contrary to the public interest.

Dated: Issued in Washington, DC, on May 9, 2012.
Kathleen B. Hogan,
Deputy Assistant Secretary for Energy Efficiency, Energy Efficiency and Renewable Energy.

BEFORE THE U.S. DEPARTMENT OF ENERGY

Washington, DC 20585

In the Matter of: SANYO E&E Corp., Petitioner).

Case Number: RF-022

REQUEST FOR EXTENSION OF COMMENT DEADLINE

SANYO E&E Corporation (“SEE”) submits this Request for Extension of Comment Deadline (“Request”) with respect to its Petition for Waiver (“Petition”) filed with the Department of Energy (“DOE”) on June 2, 2011. Notice of SEE's Petition was published in the April 2, 2012 Federal Register (Vol. 77, No. 63, p. 19654) (“Notice”) and the public comment period is currently scheduled to close on May 2, 2012. SEE respectfully requests that interested parties be granted thirty (30) additional days from the publication of this Request to file comments on SEE's Petition so that any commenters have sufficient time to provide a response incorporating the clarifications to the Petition SEE provides below. Granting the extension will not prejudice any interested parties, and will promote the efficient resolution of SEE's Petition.

1. SEE's Proposed Alternative Testing Method For Its Hybrid Models

As SEE explained in its Petition, which SEE incorporates herein, SEE's hybrid models contain design characteristics that prevent testing of the basic models according to the test procedures prescribed in 10 C.F.R. § 430, subpart B, appendix A1. Specifically, while the beverage compartment of these hybrid models is cable of achieving temperatures at or below 38 °F, the wine storage compartment of these single-cabinet units can only achieve a minimum temperature of 45 °F. As a result, it is impossible to test these hybrid models under DOE's current testing procedures, which mandate that energy consumption be measured when each compartment temperature is set at 38 °F.

In order to properly certify and rate these hybrid models, SEE proposed the following two formulas to measure the maximum allowable energy consumption of the wine storage and beverage compartments, respectively:

Energy consumption of the wine storage compartment:

EWine = {ET1 + [(ET2−ET1) × (55 °F−TW1)/(TW2−TW1)]} *0.85 ¹

¹ SEE clarifies here that the .85 correction factor should be applied to the entire formula for the wine storage compartment, {ET1 + [(ET2−ET1) × (55 °F−TW1)/(TW2−TW1)]}.

Energy consumption of the refrigerated beverage compartment:

EBeverage Compartment= ET1 + [(ET2−ET1) × (38 °F−TBC1)/(TBC2−TBC1)].

As SEE also explained, the K factor from CAN/CSA 300-08 6.3.1.2 and HRF-1-2007 8.7.2.1.1 was used because SEE's hybrid models will typically have a door-opening usage aligned with household freezers, and thus 0.85 was the employed K factor (correction factor). Further, to evaluate the models in a manner truly representative of their actual energy consumption characteristics, the standard temperature of single wine coolers (55 °F) for the wine storage compartment and the standard temperature (38 °F) for the refrigerated beverage compartment was used.²

² As DOE itself noted in its Framework Public Meeting for Wine Chillers and Miscellaneous Refrigeration Products, the Association of Home Appliance Manufacturers, the California Energy Commission, and Natural Resources Canada “all use a standardized compartment temperature of 55 °F” and a .85 K factor. Framework at pp. 34-35, available at http://www1.eere.energy.gov/buildings/appliance_standards/pdfs/wc_fw_meeting_presentation_draft.pdf. In the absence of an existing federal standard, SEE accordingly employed these prevailing standards in its proposed alternative testing method with respect to the wine storage compartment of SEE's hybrid models.

Applying these proposals, and in accordance with 10 C.F.R. § 430, subpart B, Appendix A1, SEE hybrid model MBCM24FW, which would be classified as a compact refrigerator with automatic defrost without through-the-door ice service and which has a total adjusted volume of 5.75 cubic feet, would have a maximum allowable annual energy usage of 436 kWh/year. Similarly, SEE hybrid models JUB248LB, JUB248RB, JUB248LW, JUB248RW, KBCO24LS, KBCS24LS, KBCO24RS, and KBCS24RS, which would also be classified as compact refrigerators with automatic defrost without through-the-door ice service and which have a total adjusted volume of 5.41 cubic feet, would have a maximum allowable annual energy usage of 431 kWh/year.

2. Clarification Of SEE Proposed Alternative Testing Method

In its Notice, DOE stated that “[w]e also note that the energy consumption of the basic models detailed in Sanyo's petition suggests that these products, when tested in accordance with the alternate test procedure Sanyo is requesting to use, would appear to use an amount of energy that exceeds the energy conservation standards for the likely product classes that would apply.” Notice at 19655. SEE apologizes for any confusion caused by the proposed formulas in its Petition, as SEE did not mean to suggest that 436 kWh/year and 431 kWh/year were the actual energy consumption values for the applicable hybrid models. Rather, SEE was attempting to demonstrate that these energy consumption figures would be the theoretical maximum allowable annual values under SEE's proposed alternative testing method. In order to avoid further confusion, SEE provides below a more detailed explanation as to how it derived these maximum allowable values.

With respect to basic model MBCM24FWBS, the total adjusted volume of the beverage compartment is 2.8 cubic feet, while the total adjusted volume of the wine storage compartment is 2.95 cubic feet, for a total adjusted volume of 5.75 cubic feet. To calculate the maximum allowable annual energy consumption figure, however, SEE first calculated the maximum allowable energy consumption of this model as if it were entirely governed by the class 13 all-refrigerator standard, and then calculated the maximum allowable energy consumption figure as if it were entirely governed by the current CAN/CSA-C300-08 type 20 wine chiller standard:

10 CFR 430.32 class 13 all-refrigerator: 12.70 × 5.75 + 355 kWh/year = 428 kWh/year

CAN/CSA-C300-08 type 20 wine chiller: 17.4 × 5.75 + 344 kWh/year = 444 kWh/year

SEE then took the weighted average of these figures based upon the actual total adjusted volume of the beverage compartment (2.8 cubic feet) and the wine storage compartment (2.95 cubic feet) to derive the proposed maximum allowable energy consumption figure contained in its Petition:

Combined standard: (428 kWh/year × 2.8/5.75) + (444 kWh/year × 2.95/5.75) = 436 KWh/year

With respect to basic models JUB248LB, JUB248RB, JUB248LW, JUB248RW, KBCO24LS, KBCS24LS, KBCO24RS, and KBCS24RS, SEE derived the maximum allowable energy consumption figure in the same manner, with the only difference being that the total adjusted volume of the wine storage compartment is 2.61 cubic feet for these basic models (the beverage compartment for these basic models is also 2.8 cubic feet), for a total adjusted volume of 5.41 cubic feet:

10 CFR 430.32 class 13 all-refrigerator: 12.70 × 5.41 + 355 kWh/year = 424 kWh/year

CAN/CSA-C300-08 type 20 wine chiller: 17.4 × 5.41 + 344 kWh/year = 438 kWh/year

Combined standard: (424 kWh/year × 2.8/5.41) + (438 kWh/year × 2.61/5.41) = 431 kWh/year

Thus, the 436 kWh/year and 431 kWh/year figures reflect the weighted average of the maximum allowable energy consumption standard pertaining to class 13 all-refrigerators, as applied to SEE's hybrid models' beverage compartment, and the CAN/CSA-C300-08 type 20 standard for wine chillers, as applied to SEE's hybrid models' wine storage compartment. SEE realizes that the bases for these figures may not have been entirely clear from SEE's Petition, and therefore SEE respectfully requests that DOE publish this clarification in order to provide interested parties with a more thorough understanding of how SEE derived its proposed alternative testing method and related maximum allowable energy consumption figures. SEE further requests that interested parties be granted thirty (30) additional days from the publication of this Request to file comments on SEE's Petition so that interested parties have sufficient time to provide a proper response without the need for an additional round of comments.

If DOE requires any additional information to properly consider SEE's Petition, please do not hesitate to contact the undersigned.

Respectfully submitted,

/s

Alan G. Fishel

Adam D. Bowser

ARENT FOX LLP

1050 Connecticut Avenue NW

Washington, DC 20036-5369

(202) 857-6450

fishel.alan@arentfox.com

bowser.adam@arentfox.com

April 20, 2012

[FR Doc. 2012-11998 Filed 5-16-12; 8:45 am]

BILLING CODE 6450-01-P